DEPARTMENT OF TRANSPORTATION

Federal Aviation Administration

14 CFR Part 39

[Docket No. FAA-2005-22488; Directorate Identifier 2005-NM-151-AD; Amendment 39-14637; AD 2000-11-19 R1]

RIN 2120-AA64

Airworthiness Directives; Boeing Model 767-200 and -300 Series Airplanes

AGENCY: Federal Aviation Administration (FAA), Department of Transportation (DOT).

ACTION: Final rule.

SUMMARY: The FAA is revising an existing airworthiness directive (AD) that applies to certain Boeing Model 767-200 and -300 series airplanes. That AD currently requires repetitive inspections to detect wear or damage of the door latches and disconnect housings in the off-wing escape slide compartments, and replacement of any discrepant component with a new component. This new AD revises the applicability of the existing AD to refer to a later revision of the referenced service bulletin, which removes airplanes that are not subject to the identified unsafe condition. This AD results from reports of worn and damaged door latches and disconnect housings in the off-wing escape slide compartments. We are issuing this AD to ensure deployment of an escape slide during an emergency evacuation. Non-deployment of an escape slide during an emergency could slow down the evacuation of the airplane and result in injury to passengers or flightcrew. We are also issuing this AD to detect damaged disconnect housings in the off-wing escape slide compartments, which could result in unexpected deployment of an escape slide during maintenance, and consequent injury to maintenance personnel.

DATES: The effective date of this AD is July 18, 2000.

The Director of the Federal Register approved the incorporation by reference of Boeing Service Bulletin 767-25A0260, Revision 1, dated January 25, 2001; Boeing Service Bulletin 767-25A0260, Revision 2, dated August 26, 2004; Boeing Service Bulletin 767-25A0260, Revision 3, dated July 7, 2005; and Boeing Service Bulletin 767-25A0275, Revision 3, dated April 24, 2003; listed in the AD as of July 17, 2006.

On July 18, 2000 (65 FR 37015, June 13, 2000), the Director of the Federal Register approved the incorporation by reference of Boeing Alert Service Bulletin 767-25A0260, dated July 9, 1998.

ADDRESSES: You may examine the AD docket on the Internet at http://dms.dot.gov or in person at the Docket Management Facility, U.S. Department of Transportation, 400 Seventh Street SW., Nassif Building, Room PL-401, Washington, DC.

Contact Boeing Commercial Airplanes, P.O. Box 3707, Seattle, Washington 98124-2207, for service information identified in this AD.

FOR FURTHER INFORMATION CONTACT: Victor Wicklund, Aerospace Engineer, Cabin Safety and Environmental Systems Branch, ANM-150S, FAA, Seattle Aircraft Certification Office, 1601 Lind Avenue, SW., Renton, Washington 98055-4056; telephone (425) 917-6458; fax (425) 917-6590.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA proposed to amend part 39 of the Federal Aviation Regulations (14 CFR part 39) with an airworthiness directive (AD) to revise AD 2000-11-19, amendment 39-11767 (65 FR 37015, June 13, 2000). The existing AD applies to certain Boeing Model 767-200 and -300 series airplanes. The proposed AD was published in the Federal Register on September 21, 2005 (70 FR 55323) to continue to require repetitive inspections to detect wear or damage of the door latches and disconnect housings in the off-wing escape slide compartments, and replacement of any discrepant component with a new component. The proposed AD also proposed to revise the applicability of the existing AD to refer to a later revision of the referenced service bulletin, which removes airplanes that are not subject the identified unsafe condition.

Comments

We provided the public the opportunity to participate in the development of this AD. We have considered the comments received.

Support for the Proposed AD

United Airlines and the National Transportation Safety Board support the proposed AD.

Request to Revise the Applicability

Boeing requests that the applicability of the proposed AD be revised to “Boeing Model 767-200 and -300 series airplanes, equipped with Goodrich off-wing ramp/slide having basic part numbers (P/N) 101630, 101654, 101655, or 101656. * * *” Boeing states that this change would clearly identify that the proposed AD is only applicable to the Goodrich off-wing slide system. Boeing further states that if that system is removed or replaced, the proposed inspection would no longer be necessary and, as a result, the airplane would not be applicable to the AD.

We agree and have revised the AD accordingly.

Requests to Refer to Alternative Method of Compliance (AMOC), Revise Service Information, and Delay Issuance of the Final Rule

The Air Transport Association (ATA), on behalf of a member, Continental Airlines, requests that AMOC 120S-01-80 be incorporated in the proposed AD and in a revision to Boeing Service Bulletin 767-25A0260, Revision 3, dated July 7, 2005 (referred to as an appropriate source of service information in the proposed AD for doing the proposed actions). The ATA also requests that Boeing Service Bulletin 767-25A0275, Revision 3, dated April 24, 2003, which outlines the procedures for accomplishing AMOC 120S-01-80, be referenced in the proposed AD and in Boeing Service Bulletin 767-25A0260. In addition, Continental Airlines requests that we delay issuance of the final rule until Boeing Service Bulletin 767-25A0260 is revised. The ATA states that these changes would avoid the need for processing AMOCs in the future and would provide appropriate references to service instructions related to the proposed actions.

We partially agree. For the reasons provided by the ATA and Continental Airlines, we agree to refer to Boeing Service Bulletin 767-25A0275, Revision 3, dated April 24, 2003, in the AD as an acceptable method of compliance with the replacement requirements of paragraph (h) of this AD (i.e., Part 3 of the Work Instructions of Boeing Service Bulletin 767-25A0260 only) for both disconnect housings only. However, we do not agree with Continental Airline's request to delay issuance of this AD until Boeing revises Service Bulletin 767-25A0260 to incorporate the procedures in the subject AMOC. To delay this action would be inappropriate, since we have determined that an unsafe condition exists and that inspections and replacement if necessary must be conducted to ensure continued safety. We have determined that doing the procedures specified in Boeing Service Bulletin 767-25A0260 (original issue through Revision 3) adequately addresses the identified unsafe condition of this AD. Therefore, we have added a new paragraph (j) to this AD (and re-identified subsequent paragraphs) to specify Boeing Service Bulletin 767-25A0275 as an acceptable method of compliance for doing the replacement requirements of paragraph (h) of this AD for both disconnect housings only.

Request To Address Defective Parts Manufacturer Approval (PMA) Parts

The Modification and Replacement Parts Association (MARPA) requests that consideration be given to the following questions because parts approved under section 21.303 of the Federal Aviation Regulations (14 CFR 21.303) are or may be involved in the proposed actions. The MARPA provided data that shows the PMA holder is also the supplier to the airplane manufacturer, so the parts are numbered identically.

• Do the defective parts exist on other airplanes?

• Is the language in the proposed AD that identifies the defective parts flexible enough to embrace defective PMA alternatives if they exist?

We infer that the MARPA would like the proposed AD to be revised to cover PMA parts, rather than just a single part number, so that defective PMA parts also are subject to the proposed AD. We agree with the MARPA's general request that, if we know that an unsafe condition also exists in PMA parts, the AD should address those parts, as well as the original parts. As the MARPA's data shows, in this case, the identified PMA part has the same part number as the original, and is therefore subject to the requirements of this AD. We are not aware of other PMA parts that have a different part number or of identical parts installed on other airplanes. The MARPA's remarks are timely in that the Transport Airplane Directorate currently is in the process of reviewing this issue as it applies to transport category airplanes. We acknowledge that there may be other ways of addressing this issue to ensure that unsafe PMA parts are identified and addressed. Once we have thoroughly examined all aspects of this issue, including input from industry, and have made a final determination, we will consider whether our policy regarding addressing PMA parts in ADs needs to be revised. We consider that to delay this AD action would be inappropriate, since we have determined that an unsafe condition exists, and that replacement of certain parts must be accomplished to ensure continued safety. Therefore, no change has been made to the final rule in this regard.

Request to Reference PMA Parts

The MARPA also requests us to consider if the language identifying the parts to be installed in lieu of defective parts is flexible enough to permit installation of approved PMA items.

We infer that the MARPA would like the AD to permit installation of any equivalent PMA parts so that it is not necessary for an operator to request approval of an AMOC in order to install an “equivalent” PMA part. Whether an alternative part is “equivalent” in adequately resolving the unsafe condition can only be determined on a case-by-case basis based on a complete understanding of the unsafe condition. We are not currently aware of any such parts. Our policy is that, in order for operators to replace a part with one that is not specified in the AD, they must request an AMOC. This is necessary so that we can make a specific determination that an alternative part is or is not susceptible to the same unsafe condition. No change to the AD is necessary in this regard.

Request to Identify Other Considerations Relating to PMA Parts

The MARPA also asks whether there are other considerations relating to PMA parts that are not addressed in the service bulletins. The MARPA notes that it has never seen a service bulletin that even acknowledges the existence of PMA parts.

Although the MARPA's remarks above do not specifically request a change to this AD, we infer that the commenter would like service bulletins to specify any applicable PMA part numbers (when the specified action involves removal of a defective part and replacement with a new improved part). To clarify, the type certificate holder is responsible to address unsafe conditions associated with their type design when an AD is issued and to make actions and instructions that correct the unsafe condition available to operators. Typically, the way type certificate holders make such information available is through the issuance of service bulletins. If the type certificate holder included PMA parts in their original type design, they must replace these parts in the new type design if the AD requires such action. However, the type certificate holder is not responsible for PMA parts that are not included in the type design. As we responded earlier, there may be other ways of addressing this issue to ensure that unsafe PMA parts are identified and addressed. Once we have thoroughly examined all aspects of this issue, including input from industry, and have made a final determination, we will consider whether our policy regarding addressing PMA parts in ADs needs to be revised. No change has been made to this AD as a result of the MARPA's remarks in the previous paragraph.

Clarification of AMOC Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

There are about 694 airplanes of the affected design in the worldwide fleet. This AD will affect about 315 airplanes of U.S. registry.

The inspections that are required by AD 2000-11-19 and retained in this AD take about 3 work hours per airplane, at an average labor rate of $65 per work hour. Based on these figures, the estimated cost of the currently required inspections is $61,425, or $195 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-11767 (65 FR 37015, June 13, 2000) and adding the following new airworthiness directive (AD):

2000-11-19 R1 Boeing: Amendment 39-14637. Docket No. FAA-2005-22488; Directorate Identifier 2005-NM-151-AD.

Effective Date

(a) The effective date of this AD is July 18, 2000.

Affected ADs

(b) This AD revises AD 2000-11-19.

Applicability

(c) This AD applies to Boeing Model 767-200 and -300 series airplanes, certificated in any category; as identified in Boeing Service Bulletin 767-25A0260, Revision 3, dated July 7, 2005; equipped with Goodrich off-wing ramp/slide having basic part numbers (P/N) 101630-XXX, 101654-XXX, 101655-XXX, or 101656-XXX, where X is a variable; excluding those airplanes that have been converted from a passenger to freighter configuration, and on which the off-wing escape system has been removed or deactivated.

Unsafe Condition

(d) This AD results from reports of worn and damaged door latches and disconnect housings in the off-wing escape slide compartments. We are issuing this AD to ensure deployment of an escape slide during an emergency evacuation. Non-deployment of an escape slide during an emergency could slow down the evacuation of the airplane and result in injury to passengers or flightcrew. We are also issuing this AD to detect damaged disconnect housings in the off-wing escape slide compartments, which could result in unexpected deployment of an escape slide during maintenance, and consequent injury to maintenance personnel.

Compliance

(e) You are responsible for having the actions required by this AD performed within the compliance times specified, unless the actions have already been done.

Requirements of AD 2000-11-19

Inspections

(f) Prior to the accumulation of 6,000 total flight hours, or within 18 months after July 18, 2000 (the effective date of AD 2000-11-19), whichever occurs later, perform a detailed inspection to detect wear or damage of the door latches and disconnect housings in the off-wing escape slide compartments, in accordance with Boeing Alert Service Bulletin 767-25A0260, dated July 9, 1998. Repeat the inspection thereafter at intervals not to exceed 6,000 flight hours or 18 months, whichever occurs later.

Note 1: Boeing Alert Service Bulletin 767-25A0260, dated July 9, 1998, allows repetitive inspections of a door latch having part number H2052-11 or H2052-115, provided that the latch is not worn or damaged. However, replacement of any latch having part number H2052-11 or H2052-115 with a new latch having part number H2052-13 is described as part of a modification of the escape slide compartment door latching mechanism that is specified in Boeing Alert Service Bulletin 767-25A0174, dated August 15, 1991. Accomplishment of that modification is required by AD 92-16-17, amendment 39-8327, and AD 95-08-11, amendment 39-9200. Therefore, operators should note that any latch having part number H2052-11 or H2052-115 found during an inspection required by paragraph (f) of this AD is already required to be replaced in accordance with AD 92-16-17 or AD 95-08-11, as applicable.

(g) Inspections and corrective actions accomplished prior to July 18, 2000, in accordance with the Validation Copy of Boeing Alert Service Bulletin 767-25A0260, dated April 28, 1998, are considered acceptable for compliance with the applicable action specified in this AD.

Replacement

(h) If any part is found to be worn or damaged during the inspections performed in accordance with paragraph (f) of this AD, prior to further flight, replace the worn or damaged part with a new part, and perform an adjustment of the off-wing escape slide system, in accordance with Boeing Alert Service Bulletin 767-25A0260, dated July 9, 1998.

New Optional Actions

Compliance With Revisions 1 Through 3 of Referenced Service Bulletin

(i) Inspections and applicable corrective actions done after the effective date of this AD in accordance with Boeing Service Bulletin 767-25A0260, Revision 1, dated January 25, 2001; Revision 2, dated August 26, 2004; or Revision 3, dated July 7, 2005; are acceptable for compliance with the corresponding requirements of this AD.

Compliance With Another Service Bulletin

(j) Accomplishing the replacement in accordance with the Accomplishment Instructions of Boeing Service Bulletin 767-25A0275, Revision 3, dated April 24, 2003, is acceptable for compliance with the replacement requirements of paragraph (h) of this AD (i.e., Part 3 of the Work Instructions of Boeing Alert Service Bulletin 767-25A0260) for both disconnect housings only.

Alternative Methods of Compliance (AMOCs)

(k)(1) The Manager, Seattle Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(l) You may use the service bulletins identified in Table 1 of this AD to perform the actions that are required by this AD, unless the AD specifies otherwise.

(1) The Director of the Federal Register approved the incorporation by reference of the service bulletins identified in Table 2 of this AD in accordance with 5 U.S.C. 552(a) and 1 CFR part 51.

(2) On July 18, 2000 (65 FR 37015, June 13, 2000), the Director of the Federal Register approved the incorporation by reference of Boeing Alert Service Bulletin 767-25A0260, dated July 9, 1998.

(3) Contact Boeing Commercial Airplanes, P.O. Box 3707, Seattle, Washington 98124-2207, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 1.—All Material Incorporated by Reference
Boeing service bulletin | Revision level | Date
767-25A0260 | (¹) | July 9, 1998.
767-25A0260 | 1 | January 25, 2001.
767-25A0260 | 2 | August 26, 2004.
767-25A0260 | 3 | July 7, 2005.
767-25A0275 | 3 | April 24, 2003.
¹ Original issue.

Table 2.—New Material Incorporated by Reference
Boeing service bulletin | Revision level | Date
767-25A0260 | 1 | January 25, 2001.
767-25A0260 | 2 | August 26, 2004.
767-25A0260 | 3 | July 7, 2005.
767-25A0275 | 3 | April 24, 2003.

Issued in Renton, Washington, on May 31, 2006.
Kalene C. Yanamura,
Acting Manager, Transport Airplane Directorate, Aircraft Certification Service.

[FR Doc. 06-5210 Filed 6-9-06; 8:45 am]

BILLING CODE 4910-13-P